DEPARTMENT OF HEALTH AND HUMAN SERVICES

Centers for Disease Control and Prevention

[30-Day-12-12LA]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

Evaluation of the Communities Putting Prevention to Work (CPPW) National Prevention Media Initiative—New—National Center for Chronic Disease Prevention and Health Promotion (NCCDPHP), Centers for Disease Control and Prevention (CDC).

Background and Brief Description

The American Recovery and Reinvestment Act of 2009 (ARRA) allotted $650 million to the Department of Health and Human Services (HHS) to support evidence-based prevention and wellness strategies. The cornerstone of the initiative is the Communities Putting Prevention to Work (CPPW) Community Program, administered by the Centers for Disease Control and Prevention (CDC). In March 2010, HHS made 44 CPPW awards for community-based obesity and tobacco preventions efforts, followed in September 2010 by additional awards made possible by Affordable Care Act (ACA) funding. Between the two funding sources, there are 50 communities that are part of CPPW: 28 are funded only for obesity-related initiatives; 11 are funded for both obesity and tobacco initiatives; and 11 are funded only for tobacco-related initiatives.

CPPW program efforts are supported by a National Prevention Media Initiative. Although originally planned as a national campaign, CDC determined that the best support for the CPPW communities would be to shift to a localized approach. CDC plans to conduct two cycles of information collection in the 39 target communities that are addressing obesity: the first in Fall 2012 and the second in Winter/Spring 2013. The target is 6,000 completed responses for each cycle of data collection. A separate sample will be drawn for each of the 39 communities. All information will be collected through brief telephone interviews with adults aged 25 years or older. The insights to be gained from this information collection will be valuable to assessing the impact of CPPW-related program activities. The information will specifically be used to assess aided and unaided awareness of CPPW media efforts, beliefs and attitudes about obesity, and behaviors that encourage active eating and healthy living. Results will be used to inform the design and delivery of future media campaigns.

OMB approval is requested for one year. The estimated burden per response is one minute or less for eligibility screening, five minutes for an incomplete telephone interview, and 10 minutes for a complete telephone interview. Participation in the telephone interviews is voluntary and there are no costs to respondents other than their time. The total estimated annualized burden hours are 2,406.

Estimated Annualized Burden Hours
Type of respondent | Form name | Number of respondents | Number of responses per respondent | Average burden per response (in hr)
Adult General Public ≥25 years of age | Screener for the Community Telephone Interview | 22,400 | 1 | 1/60
| Community Telephone Interview (incomplete) | 400 | 1 | 5/60
| Community Telephone Interview (complete) | 12,000 | 1 | 10/60

Dated: August 21, 2012.
Ron A. Otten,
Director, Office of Scientific Integrity (OSI), Office of the Associate Director for Science, Office of the Director, Centers for Disease Control and Prevention.

[FR Doc. 2012-21033 Filed 8-24-12; 8:45 am]

BILLING CODE 4163-18-P